FEDERAL DEPOSIT INSURANCE CORPORATION

DEPARTMENT OF THE TREASURY

Office of Thrift Supervision

Proposed Agency Information Collection Activities; Comment Request

AGENCY: Federal Deposit Insurance Corporation (FDIC) and Office of Thrift Supervision (OTS), Treasury.

ACTION: Joint notice and request for comment.

SUMMARY: In accordance with the requirements of the Paperwork Reduction Act (PRA) of 1995 (44 U.S.C. chapter 35), the FDIC and the OTS (the “agencies”) may not conduct or sponsor, and the respondent is not required to respond to, an information collection unless it displays a currently valid Office of Management and Budget (OMB) control number. The agencies are requesting public comment on their proposal to require savings associations currently filing data through the Branch Office Survey System (BOS) with the OTS to convert to filing data through the Summary of Deposits Survey (SOD) with the FDIC. The BOS and the SOD are currently approved collections of information. At the end of the comment period, the comments and recommendations received will be analyzed to determine the extent to which the agencies should modify their proposal prior to giving final approval. The agencies will then submit the proposal to OMB for review and approval.

DATES: Comments must be submitted on or before April 11, 2011.

ADDRESSES: Interested parties are invited to submit written comments to either or both of the agencies. All comments, which should refer to the OMB control number(s), will be shared between the agencies.

FDIC: You may submit comments, which should refer to “Summary of Deposits Survey, 3064-0061,” by any of the following methods:

• Agency Web Site: http://www.fdic.gov/regulations/laws/federal/propose.html. Follow the instructions for submitting comments on the FDIC Web site.

• Federal eRulemaking Portal: http://www.regulations.gov. Follow the instructions for submitting comments.

• E-mail: comments@FDIC.gov. Include “Summary of Deposits Survey, 3064-0061” in the subject line of the message.

• Mail: Gary A. Kuiper, (202) 898-3877, Counsel, Attn: Comments, Room F-1072, Federal Deposit Insurance Corporation, 550 17th Street, NW., Washington, DC 20429.

• Hand Delivery: Comments may be hand delivered to the guard station at the rear of the 550 17th Street Building (located on F Street) on business days between 7 a.m. and 5 p.m.

Public Inspection: All comments received will be posted without change to http://www.fdic.gov/regulations/laws/federal/propose.html including any personal information provided. Comments may be inspected at the FDIC Public Information Center, Room E-1002, 3501 Fairfax Drive, Arlington, VA 22226, between 9 a.m. and 5 p.m. on business days.

OTS: You may submit comments, identified by “1550-0004 (Branch Office Survey System),” by any of the following methods:

• Federal eRulemaking Portal: http://www.regulations.gov. Follow the instructions for submitting comments.

• E-mail address: infocollection.comments@ots.treas.gov. Please include “1550-0004 (Branch Office Survey System)” in the subject line of the message and include your name and telephone number in the message.

• Fax: (202) 906-6518.

• Mail: Information Collection Comments, Chief Counsel's Office, Office of Thrift Supervision, 1700 G Street, NW., Washington, DC 20552, Attention: “1550-0004 (Branch Office Survey System).”

• Hand Delivery/Courier: Guard's Desk, East Lobby Entrance, 1700 G Street, NW., from 9 a.m. to 4 p.m. on business days, Attention: Information Collection Comments, Chief Counsel's Office, Attention: “1550-0004 (Branch Office Survey System).”

Instructions: All submissions received must include the agency name and OMB Control Number (1550-0004) for this information collection. All comments received will be posted without change to the OTS Internet Site at http://www.ots.treas.gov/pagehtml.cfm?catNumber=67&an=1, including any personal information provided.

Docket: For access to the docket to read background documents or comments received, go to http://www.ots.treas.gov/pagehtml.cfm?catNumber=67&an=1. In addition, you may inspect comments at the Public Reading Room, 1700 G Street, NW., by appointment. To make an appointment for access, call (202) 906-5922, send an e-mail to public.info@ots.treas.gov, or send a facsimile transmission to (202) 906-7755. (Prior notice identifying the materials you will be requesting will assist us in serving you.) We schedule appointments on business days between 10 a.m. and 4 p.m. In most cases, appointments will be available the next business day following the date we receive a request.

Additionally, commenters may send a copy of their comments to the OMB desk officer for the agencies by mail to the Office of Information and Regulatory Affairs, U.S. Office of Management and Budget, New Executive Office Building, Room 10235, 725 17th Street, NW., Washington, DC 20503, or by fax to (202) 395-6974.

FOR FURTHER INFORMATION CONTACT: For further information about the proposal discussed in this notice, please contact either of the agency clearance officers whose names appear below.

In addition, copies of the reporting forms and instructions for the SOD can be obtained at the FDIC Web site (http://www2.fdic.gov/sod/). Copies of the reporting forms and instructions for the BOS can be obtained at the OTS Web site (http://www.ots.treas.gov/?p=BranchOfficeSurvey).

FDIC: Gary A. Kuiper, Counsel, (202) 898-3877, Legal Division, Federal Deposit Insurance Corporation, 550 17th Street, NW., Washington, DC 20429.

OTS: Ira L. Mills, OTS Clearance Officer, at Ira.Mills@ots.treas.gov, (202) 906-6531, or facsimile number (202) 906-6518, Regulations and Legislation Division, Chief Counsel's Office, Office of Thrift Supervision, 1700 G Street, NW., Washington, DC 20552.

SUPPLEMENTARY INFORMATION: The agencies are proposing to standardize the yearly collection of branch information among all FDIC-insured entities. To accomplish this goal, the agencies are proposing to cease collection of branching and deposit data from OTS-regulated savings associations through the BOS and require this data be filed through the SOD. The SOD is currently the data collection facility used by all other FDIC-insured entities. The SOD and the BOS are currently approved collections of information for each agency.

1. Report Title: Summary of Deposits Survey (SOD).

Form Number: 8020/05.

Frequency of Response: Annually.

Affected Public: Business or other for-profit.

FDIC:

OMB Number: 3064-0061.

Current:

Estimated Number of Respondents: 6,000 insured commercial banks and state-chartered savings banks.

Estimated Time per Response: 3 burden hours.

Estimated Total Annual Burden: 18,000 burden hours.

Proposed:

Estimated Number of Respondents: 6,543 insured commercial banks, state-chartered savings banks, and savings associations.

Estimated Time per Response: 3 burden hours.

Estimated Total Annual Burden: 19,629 burden hours.

The current annual burden for the SOD is estimated to be 18,000 hours. Approximately 6,000 institutions spend an average of three hours to prepare the SOD. It is estimated that some institutions with only two or three branches will take 15 minutes to complete the survey while larger banks usually have the branch information in their system for easy retrieval to complete the SOD form.

As discussed in more detail later in this notice, there are differences in the panel of institutions required to report data through the SOD and those required to report data through the BOS. In summary, single-office institutions are not required to file the SOD, but are required to file the BOS. OTS estimates there are approximately 181 single-office savings associations that are currently required to file data through the BOS but would not be required to file data through the SOD.

Another difference in the panel of institutions required to file through the BOS compared to through the SOD are trust-only institutions. All trust-only savings associations are exempt from filing data through the BOS. However, trust-only institutions with more than one office location would be required to file data through the SOD. There is one trust-only savings association with more than one office location and, hence, this institution would be required to file through the SOD. Given these changes in the panel of required filers, the proposed burden estimates above for filing through the SOD reflect a net reduction of 180 savings associations from the total 723 OTS-regulated savings associations required to file through the BOS.

2. Report Title: Branch Office Survey System (BOS).

Form Number: OTS 248 (for savings associations).

Frequency of Response: Annually.

Affected Public: Business or other for-profit.

OTS:

OMB Number: 1550-0004.

Current:

Estimated Number of Respondents: 723 savings associations.

Estimated Time per Response: 3 burden hours.

Estimated Total Annual Burden: 2,169 burden hours.

Proposed:

Estimated Number of Respondents: Not applicable.

Estimated Time per Response: Not applicable.

Estimated Total Annual Burden: Not applicable.

The burden estimates above for filing through the BOS reflect a reduction for the 18 trust-only savings associations that would not be required to file through the BOS from the total population of 741 OTS-regulated savings associations.

General Description of Reports

These information collections are mandatory. The FDIC is authorized to collect these data under section 9 (Eighth) of the Federal Deposit Insurance Act (12 U.S.C. 1819), which gives the FDIC the power to require information and reports from banks to carry out its statutory responsibilities regarding bank supervision. The survey has been conducted on a yearly basis since 1972.

OTS is authorized to collect this data under Sections 3(b)(2) and 4(a)(2) of the Home Owners' Loan Act (12 U.S.C. 1462a(b)(2) and 1463(a)(2)).

All data collected through the BOS and the SOD submissions are available to the public.

Abstract

Institutions submit SOD and BOS data to the agencies annually for the agencies' use in monitoring branching activity, reviewing changes in levels of deposits at branches, and in evaluating changes in market share of deposits by location. SOD and BOS submissions also provide branch deposit data necessary for evaluating institutions' corporate applications, for identifying areas of focus for on-site and off-site examinations, and for monetary and other public policy purposes. In addition, SOD data are used to measure the host state loan-to-deposit ratios used to determine compliance with section 109 of the Riegle-Neal Interstate Banking and Branching Efficiency Act of 1994, which generally prohibits a bank from establishing or acquiring a branch or branches outside its home state primarily for the purpose of deposit production.

Effect of Recent Legislation

The Dodd-Frank Wall Street Reform and Consumer Protection Act, Public Law 111-203 (the Dodd-Frank Act) was enacted into law on July 21, 2010. Title III of the Dodd-Frank Act abolishes the OTS, provides for its integration with the Office of the Comptroller of the Currency (OCC) effective as of July 21, 2011 (the “transfer date”), and transfers its functions to the OCC, the Board of Governors of the Federal Reserve System (Board), and the FDIC.

Under Title III of the Dodd-Frank Act, all functions of the OTS relating to federal savings associations and rulemaking authority for all savings associations are transferred to the OCC. All functions of the OTS relating to state-chartered savings associations (other than rulemaking) are transferred to the FDIC. All functions of the OTS relating to supervision of savings and loan holding companies (including rulemaking) are transferred to the Board.

After careful review, the agencies believe having common financial reports and reporting processes among all FDIC-insured institutions is more efficient and will lead to more uniform comparisons of financial condition, performance, and trends. For these reasons, the OTS is proposing to eliminate the BOS data collection process used by OTS-regulated savings associations and require these entities to file this information using the SOD processes and systems. This proposal would standardize the reporting routines and processes required of all FDIC-insured entities for branch office data through the SOD.

Current Actions

The agencies are proposing to implement changes to savings associations' branch office reporting requirements effective June 30, 2011. These changes are intended to provide a consistent data collection needed for reasons of safety and soundness or other public purposes. The proposed changes would require OTS-regulated savings associations to cease filing through the BOS and commence filing through the SOD, thus standardizing the yearly collection of branch office information, including deposit data, between OTS-regulated savings associations and all other FDIC-insured entities.

OTS-regulated savings associations use OTS-developed proprietary software for the yearly filing of branch office information. Branch office information is filed by all other FDIC-insured entities with the FDIC directly using either FDICconnect or institution-acquired commercially available software.

The BOS and SOD collections of branch office information are very similar and the estimated burden hours are identical (an average of 3 hours per entity annually). However, there are some differences between the entities required to file the BOS and the SOD. Single-office OTS-regulated savings associations are required to file through the BOS. However, all other single-office FDIC-insured entities (unit banks) are not required to file through the SOD. Instead, deposit data from the Call Report quarterly information collection are used for deposit balances of unit banks.

Another difference between the BOS and the SOD is that savings associations engaged in trust-only activities ¹ are not required to file through the BOS. However, all other trust-only FDIC-insured entities with more than one location (office/branch) are required to file through the SOD.² Though these differences are minor, OTS-regulated savings associations are encouraged to review the SOD filing requirements and processes. The SOD general description and instructions can be obtained at the FDIC Web site through the following link: http://www2.fdic.gov/sod/.

¹ These OTS-regulated “special purpose” savings associations engage only in trust and asset management activities. These institutions, deemed “trust-only,” do not perform commercial or retail banking services by granting credit or taking deposits from the public in the ordinary course of business.

² As of September 30, 2010, only one of the eighteen OTS-regulated trust-only savings associations had more than one office location. That one entity would be required to file through the SOD under this proposal.

There is little difference between the BOS and the SOD collections of branch information. Therefore, the burden of changing processes, for most OTS-regulated savings associations, would be minimal or even reduced.³ Hence, the agencies desire to have a standard yearly collection of branch information among all FDIC-insured entities through the existing FDIC process beginning with the filing of June 30, 2011, branch information.

³ The OTS estimates there were approximately 180 savings associations operating at September 30, 2010, that filed data through the BOS for the 2010 reporting period, but would not have to file data through the SOD under this proposal.

Request for Comment

Public comment is requested on all aspects of this joint notice. Comments are invited on:

(a) Whether the proposed revisions to the collections of information that are the subject of this notice are necessary for the proper performance of the agencies' functions, including whether the information has practical utility;

(b) The accuracy of the agencies' estimates of the burden of the information collections as they are proposed to be revised, including the validity of the methodology and assumptions used;

(c) Ways to enhance the quality, utility, and clarity of the information to be collected;

(d) Ways to minimize the burden of information collections on respondents, including through the use of automated collection techniques or other forms of information technology; and

(e) Estimates of capital or start up costs and costs of operation, maintenance, and purchase of services to provide information.

Comments submitted in response to this joint notice will be shared between the agencies. All comments will become a matter of public record.

Dated at Washington, DC, this 24th day of January, 2011.
Federal Deposit Insurance Corporation.
Robert E. Feldman,
Executive Secretary.
Dated: February 2, 2011.
Ira L. Mills,
Paperwork Clearance Officer, Office of Chief Counsel, Office of Thrift Supervision.

[FR Doc. 2011-2780 Filed 2-7-11; 8:45 am]

BILLING CODE 6714-01-P; 6720-01-P